DEPARTMENT OF TRANSPORTATION

Federal Aviation Administration

Agency Information Collection Activities Under OMB Review

AGENCY: Federal Aviation Administration (FAA), DOT.

ACTION: Notice.

SUMMARY: In compliance with the Paperwork Reduction Act of 1995 (44 U.S.C. 3501 et seq.), this notice announces that the Information Collection Requests (ICR) abstracted below have been forwarded to the Office of Management and Budget (OMB) for extension of the currently approved collections. The ICR describes the nature of the information collections and the expected burdens. The Federal Register notice with a 60-day comment period soliciting comments on the following collection of information was published on 4/26/01, pages 21037-21038.

DATES: Comments must be submitted on or before August 2, 2001. A comment to OMB is most effective if OMB receives it within 30 days of publication.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

FOR FURTHER INFORMATION CONTACT: Judy Street on (202) 267-9895.

SUPPLEMENTARY INFORMATION:

Federal Aviation Administration (FAA)

1. Title: Certification Procedures for Products and Parts, FAR 21.

Type of Request: Extension of a currently approved collection.

OMB Control Number: 2120-0018.

Form(s): FAA Forms 8110-12, 8130-1, 8130-6, 8130-9, 8130-12.

Affected Public: The respondents are an estimated 5100 aircraft part's designers, manufacturers, and aircraft owners.

Abstract: The information collected is used to determine compliance and applicant eligibility. FAA Airworthiness inspectors, designated inspectors, engineers, and designated engineers review the required data submittals to determine that the products and manufacturing facilities comply with the applicable requirements, and that the products have no unsafe features. Those products and facilities that comply with the minimum requirements are issued one or more appropriate certificates.

Estimated Annual Burden Hours: 44,101 hours annually.

2. Title: Air Taxi and Commercial Operator Activity Survey.

Type of Request: Extension of a currently approved collection.

OMB Control Number: 2120-0067.

Form(s): FAA Form 1800-31.

Affected Public: The respondents are an estimated 500 air taxi/commercial operators who are subject to the passenger transportation tax.

Abstract: The data collected is to serve as an input to the FAA revenue enplanement database which is used in allocating Airport Improvement Program (AIP) funds to airports.

Estimated Annual Burden Hours: 750 hours.

3. Title: Fuel Venting and Exhaust Emission Requirements for Turbine Engine Powered Airplanes.

Type of Request: Extension of a currently approved collection.

OMB Control Number: 2120-0508.

Form(s): None.

Affected Public: 6 engine manufacturers (estimated 1200 engines).

Abstract: This is a labeling requirement to put the date of manufacture and compliance status on the identification plate. The information is used by FAA inspectors, purchasers, owners and operators periodically, during the course of the year, to confirm that the engines meet U.S. EPA pollution requirements in lieu of searching through extensive paper records.

Estimated Annual Burden Hours: 100 hours.

4. Title: Airports Grants Program.

Type of Request: Extension of a currently approved collection.

OMB Control Number: 2120-0569.

Form(s): FAA Forms 5100-100, 5100-108, 5100-125, 5100-126, 5370-1.

Affected Public: 1,950 airport sponsors and planning agencies.

Abstract: The FAA collects information from airport sponsors and planning agencies in order to administer the Airports Grants Program. Data is used to determine eligibility, ensure proper use of Federal funds, and ensure project accomplishments.

Estimated Annual Burden Hours: 67,714 hours annually.

5. Title: Terrain Awareness and Warning System (TAWS).

Type of Request: Extension of a currently approved collection.

OMB Control Number: 2120-0631.

Form(s): None.

Affected Public: Device installed in all turbine-powered airplanes of 6 or more passengers seating.

Abstract: This is considered a passive information collection. The rule requires TAWS for all turbine-powered airplanes of 6 or more passenger seating. The TAWS is a passive, electronic, safety device located in the avionics bay of the airplane. TAWS alerts pilots when there is terrain in the airplane's flight path.

Estimated Annual Burden Hours: 1 hour.

Issued in Washington, DC, on June 27, 2001.
Steve Hopkins,
Manager, Standards and Information Division, APF-100.

[FR Doc. 01-16711 Filed 7-2-01; 8:45 am]

BILLING CODE 4910-13-M